DEPARTMENT OF THE INTERIOR

National Park Service

Notice of Inventory Completion for Native American Human Remains From the Norton Sound Region, AK in the Possession of the University of Pennsylvania Museum of Archaeology and Anthropology, Philadelphia, PA

AGENCY: National Park Service.

ACTION: Notice.

Notice is hereby given in accordance with provisions of the Native American Graves Protection and Repatriation Act (NAGPRA), 43 CFR 10.9, of the completion of an inventory of human remains from the Norton Sound Region, AK in the possession of the University of Pennsylvania Museum of Archaeology and Anthropology, Philadelphia, PA.

A detailed assessment of the human remains was made by University of Pennsylvania Museum professional staff in consultation with representatives of the Native Village of Unalakleet, the Native Village of Shaktoolik, the Native Village of St. Michael, the Stebbins Community Association, and the Bering Straits Native Foundation.

In 1969, human remains representing one individual were recovered from a site east of Kouwegok Slough near Unalakleet, AK during excavations conducted under the auspices of the University of Pennsylvania by archeologist Bruce Lutz. No known individual was identified. No associated funerary objects are present.

Based on excavation records and accession information provided by the collector, this individual has been identified as Native American from the Post-Norton period (after 1000 A.D.). No further information exists for this individual.

Based on the above mentioned information, officials of the University of Pennsylvania Museum have determined that, pursuant to 43 CFR 10.2 (d)(1), the human remains listed above represent the physical remains of one individual of Native American ancestry. Officials of the University of Pennsylvania Museum have determined that, pursuant to 43 CFR 10.2 (e), there is a relationship of shared group identity which can be reasonably traced between these Native American human remains and the Native Village of Unalakleet.

This notice has been sent to officials of the Native Village of Unalakleet, the Native Village of Shaktoolik, the Native Village of St. Michael, the Stebbins Community Association, and the Bering Straits Native Foundation. Representatives of any other Indian tribe that believes itself to be culturally affiliated with these human remains should contact Dr. Jeremy Sabloff, the Williams Director, University of Pennsylvania Museum of Archaeology and Anthropology, 33rd and Spruce Streets, Philadelphia, PA 19104-6324; telephone: (215) 898-4051, fax (215) 898-0657, before May 15, 2000. Repatriation of the human remains to the Native Village of Unalakleet may begin after that date if no additional claimants come forward.

The National Park Service is not responsible for the determinations within this notice.

Dated: April 7, 2000.
G. Mark Schoepfle,
Acting Departmental Consulting Archeologist, Archeology and Ethnography Program.

[FR Doc. 00-9296 Filed 4-13-00; 8:45 am]

BILLING CODE 4310-70-F